DEPARTMENT OF COMMERCE

National Oceanic and Atmospheric Administration

[I.D. 050905E]

Atlantic Highly Migratory Species (HMS); Notice of Sea Turtle Release/Protocol Workshops

AGENCY: National Marine Fisheries Service (NMFS), National Oceanic and Atmospheric Administration (NOAA), Commerce.

ACTION: Notice of public workshops.

SUMMARY: NMFS is announcing workshops that will demonstrate proper sea turtle handling, resuscitation, and release techniques for vessel operators using bottom longline (BLL) gear to catch sharks in the Atlantic Ocean, including the Gulf of Mexico. The workshops will also summarize the current regulations pertaining to safe handling and release protocols and requirements for possession and use of mitigation equipment for sea turtles and other protected resources.

DATES: The workshops will be held in June 2005. For specific dates and times see the SUPPLEMENTARY INFORMATION section of this notice.

ADDRESSES: The workshops will be held in Galveston and Port Isabel, TX; Venice, LA; Panama City, Madeira Beach, Key West, and Cocoa Beach, FL; Charleston, SC; and Manteo, NC. For specific locations see the SUPPLEMENTARY INFORMATION section of this notice.

FOR FURTHER INFORMATION CONTACT: Charlie Bergmann, 3209 Frederic St., Pascagoula, MS 39567 or by phone at 228-762-4591 (office phone) or 228-623-0748 (cellular phone).

Additional information on Highly Migratory Species (HMS) management can be found online at: http://www.nmfs.noaa.gov/sfa/hms or by calling the Highly Migratory Species Management Division at 301-713-2347.

SUPPLEMENTARY INFORMATION: Atlantic tuna, swordfish, shark, and billfish fisheries are managed under the authority of the Magnuson-Stevens Fishery Conservation and Management Act and the Atlantic Tunas Convention Act (ATCA), which authorizes rulemaking as may be necessary and appropriate to implement recommendations of the International Commission for the Conservation of Atlantic Tunas (ICCAT). Implementing regulations for the Fishery Management Plan for Atlantic Tunas, Swordfish, and Sharks and the Billfish Fishery Management Plan are at 50 CFR part 635.

On October 29, 2003, a Biological Opinion (BiOp) for Amendment 1 to the Fishery Management Plan for Atlantic Tunas, Swordfish, and Sharks concluded that the measures in the Amendment were not likely to jeopardize the continued existence of any listed species under NMFS' purview. Pursuant to the 2003 BiOp, NMFS is conducting workshops for BLL fishermen to provide information regarding gear handling techniques and protocols that demonstrate ways to reduce the potential for serious injury or mortality should incidental capture of sea turtles or other protected resources via hooking or entanglement occur.

NMFS has scheduled nine workshops for June 2005 to ensure that shark BLL fishermen are aware of gear handling and release protocols and are proficient at using equipment available to reduce post-release mortality of protected resources that are caught with BLL gear. Additionally, fishermen who use BLL for other species such as grouper are also invited to attend these workshops.

Dates, Times, and Locations

The dates, times, and locations of these workshops are scheduled as follows:

1. June 1, 2005, NMFS Laboratory, 4700 Avenue U, Galveston, TX, from 1 to 5 p.m. (409) 766-3500.

2. June 3, 2005, Coast Guard Station, 436 Coast Guard Road, Venice, LA, from 1 to 5 p.m. (985) 534-2332.

3. June 6, 2005, Sea Grant Office/County Extension Office, Panama City, FL, from 1 to 5 p.m. (850) 874-6105.

4. June 8, 2005, Harvey Government Center, 1200 Truman Ave., 2nd Floor, Key West, FL, from 1 to 5 p.m. (305) 292-4431.

5. June 10, 2005, City Hall, 300 Municipal Drive, Madeira Beach, FL, from 1 to 5 p.m. (727) 391-9951 x 228.

6. June 13, 2005, Sea Grant Building, 3695 Lake Drive, Cocoa Beach, FL, from 1 to 5 p.m. (321) 952-4536.

7. June 15, 2005, Marine Resources Institute, 217 Fort Johnson Road, Charleston/James Island, SC, from 1 to 5 p.m. (843) 953-9300.

8. June 17, North Carolina Aquarium-Roanoke Island, Airport Road, Manteo, NC, from 1 to 5 p.m. (252) 473-3494.

9. June 30, Port Isabel Community Center, 213 Yturria, Port Isabel, TX, from 1 to 5 p.m. (956) 943-9991.

Special Accommodations

These meetings are physically accessible to people with disabilities. Request for sign language interpretation or other auxiliary aids should be directed to Charlie Bergmann (see FOR FURTHER INFORMATION CONTACT) at least 5 days before the meeting.

Authority: 16 U.S.C. 971 et seq. and 1801 et seq.

Dated: May 17, 2005.
Galen R. Tromble,
Acting Director, Office of Sustainable Fisheries, National Marine Fisheries Service.

[FR Doc. 05-10127 Filed 5-17-05; 3:54 pm]

BILLING CODE 3510-22-S